DEPARTMENT OF COMMERCE

Foreign-Trade Zones Board

[Order No. 2081]

Approval of Subzone Status; Calsonic Kansei North America; Shelbyville and Lewisburg, Tennessee

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR part 400) provide for the establishment of subzones for specific uses;

Whereas, the Metropolitan Government of Nashville and Davidson County, Tennessee, grantee of Foreign-Trade Zone 78, has made application to the Board for the establishment of a subzone at the facilities of Calsonic Kansei North America, located in Shelbyville and Lewisburg, Tennessee (FTZ Docket B-52-2018, docketed August 15, 2018);

Whereas, notice inviting public comment has been given in the Federal Register (83 FR 42868, August 24, 2018) and the application has been processed pursuant to the FTZ Act and the Board's regulations; and,

Whereas, the Board adopts the findings and recommendations of the examiner's memorandum, and finds that the requirements of the FTZ Act and the Board's regulations are satisfied;

Now, therefore, the Board hereby approves subzone status at the facilities of Calsonic Kansei North America, located in Shelbyville and Lewisburg, Tennessee (Subzone 78M), as described in the application and Federal Register notice, subject to the FTZ Act and the Board's regulations, including Section 400.13.

Dated: May 21, 2019.
Jeffrey I. Kessler,
Assistant Secretary for Enforcement and Compliance, Alternate Chairman, Foreign-Trade Zones Board.

[FR Doc. 2019-11018 Filed 5-24-19; 8:45 am]

BILLING CODE 3510-DS-P